SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes new information collections, revisions to OMB-approved information collections and extensions (no change) of OMB-approved information collections.

SSA is soliciting comments on the accuracy of the Agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB) Office of Management and Budget, Attn: Desk Officer for SSA, Fax: 202-395-6974, E-mail address: OIRA_Submission@omb.eop.gov;

(SSA) Social Security Administration, DCBFM, Attn: Reports Clearance Officer, 1333 Annex Building, 6401 Security Blvd., Baltimore, MD 21235, Fax: 410-965-6400, E-mail address: OPLM.RCO@ssa.gov.

I. The information collections listed below are pending at SSA. SSA will submit them to OMB within 60 days from the date of this notice. Therefore, submit your comments to SSA within 60 days from the date of this publication. You can obtain copies of the collection instruments by calling the SSA Reports Clearance Officer at 410-965-0454 or by writing to the address listed above.

1. Supplemental Security Income (SSI)—Quality Review Case Analysis—0960-0133. SSA uses Form SSA-8508-BK, which covers all elements of SSI eligibility, in a personal interview with a sample of SSI recipients. SSA uses the gathered information to assess the effectiveness of Supplemental Security Income (SSI) policies and procedures and to determine payment accuracy rates. Respondents are recipients of payments.

Type of Request: Revision of an OMB-approved information collection.

Number of Respondents: 3,900.

Frequency of Response: 1.

Average Burden per Response: 60 minutes.

Estimated Annual Burden: 3,900 hours.

2. Waiver of Supplemental Security Income Payment Continuation—20 CFR 416.1400-416.1422—0960-NEW. Claimants who initially elect payment continuation must complete Form SSA-263 to request SSA waive or stop payments until there is a decision on their appeals. SSA uses the information to waive or stop payments and as proof claimants understand their due process rights. Respondents are SSI recipients who wish to stop or waive payments during the appeals process.

Type of Request: Existing Information Collection in Use without an OMB Number.

Number of Respondents: 3,000.

Frequency of Response: 1.

Average Burden per Response: 5 minutes.

Estimated Annual Burden: 250 hours.

II. SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Application for Supplemental Security Income—20 CFR 416.207 and 416.305-416.335, Subpart C—0960-0229. SSA has prescribed Form SSA-8000 as the application for SSI payments. SSA uses the information gathered on SSA-8000 to determine whether claimants meet all statutory and regulatory requirements for SSI eligibility and the amount of such payments. The respondents are applicants for SSI payments.

Type of Request: Revision of an OMB-approved information collection.

Type of response | Number of respondents | Frequency of response | Average burden per response (minutes) | Total annual burden (hours)
Paper | 25,625 | 1 | 41 | 17,510
MSSICS | 138,120 | 1 | 36 | 82,872
MSSICS w/ Signature Proxy | 1,117,515 | 1 | 35 | 651,884
Totals | 1,281,260 |  |  | 752,266

SSA is making the following corrections to the 60-Day Notice published on March 26, 2008 at 73 FR 16087: we changed the type of request to a revision, and revised the burden information to include both regular MSSICS screens and MSSICS screens including the Signature Proxy application.

2. Integrated Registration Services (IRES) System—20 CFR 401.45—0960-0626. The IRES System registers and authenticates individuals, businesses, organizations, entities, and government agencies to use the eService Internet and telephone applications for requesting and exchanging business data with SSA, and issues them a User Identification Number (User ID) and a password. In addition, this process verifies the identity of individuals who use SSA's Business Services Online. Respondents are employers and third party submitters of wage data, business entities providing taxpayer identification information, and data exchange partners conducting business in support of Social Security programs.

Type of Request: Revision of an OMB-approved information collection.

Number of Respondents: 1,300,000.

Frequency of Response: 1.

Average Burden Per Response: 2 minutes.

Estimated Annual Burden: 43,333 hours.

Dated: June 5, 2008.
Elizabeth A. Davidson,
Reports Clearance Officer, Social Security Administration.

[FR Doc. E8-13061 Filed 6-10-08; 8:45 am]

BILLING CODE 4191-02-P